DEPARTMENT OF JUSTICE

Drug Enforcement Administration

Importer of Controlled Substances; Notice of Application; Cerilliant Corporation

Pursuant to Title 21 Code of Federal Regulations 1301.34(a), this is notice that on July 16, 2013, Cerilliant Corporation, 811 Paloma Drive, Suite A, Round Rock, Texas 78665-2402, made application to the Drug Enforcement Administration (DEA) for registration as an importer of the following basic classes of controlled substances:

Drug | Schedule
Methaqualone (2565) | I
JWH-250 (6250) | I
SR-18 also known as RCS-8 (7008) | I
XLR11 (7011) | I
JWH-019 (7019) | I
AKB48 (7048) | I
JWH-081 (7081) | I
SR-19 also known as RCS-4 (7104) | I
JWH-122 (7122) | I
UR-144 (7144) | I
AM-2201 (7201) | I
JWH-203 (7203) | I
Parahexyl (7374) | I
2C-T-2 (7385) | I
JWH-398 (7398) | I
5-Methoxy-3,4-methylenedioxy-amphetamine (7401) | I
N-Hydroxy-3,4-methylenedioxy-amphetamine (7402) | I
Bufotenine (7433) | I
N-Ethyl-1-phenylcyclohexylamine (7455) | I
1-(1-Phenylcyclohexyl)pyrrolidine (7458) | I
1-(1-Phenylcyclohexyl)pyrrolidine (7470) | I
2C-D (7508) | I
2C-E (7509) | I
2C-H (7517) | I
2C-I (7518) | I
2C-C (7519) | I
2C-N (7521) | I
2C-P (7524) | I
2C-T-4 (7532) | I
AM-694 (7694) | I
Codeine methylbromide (9070) | I
Acetylmethadol (9601) | I
Allylprodine (9602) | I
Alphacetylmethadol except levo-alphacetylmethadol (9603) | I
Alphameprodine (9604) | I
Alphamethadol (9605) | I
Benzethidine (9606) | I
Betacetylmethadol (9607) | I
Betameprodine (9608) | I
Betamethadol (9609) | I
Betaprodine (9611) | I
Hydroxypethidine (9627) | I
Noracymethadol (9633) | I
Norlevorphanol (9634) | I
Normethadone (9635) | I
Para-Fluorofentanyl (9812) | I
3-Methylfentanyl (9813) | I
Alpha-methylfentanyl (9814) | I
Acetyl-alpha-methylfentanyl (9815) | I
Beta-hydroxyfentanyl (9830) | I
Beta-hydroxy-3-methylfentanyl (9831) | I
Alpha-methylthiofentanyl (9832) | I
3-Methylthiofentanyl (9833) | I
Thiofentanyl (9835) | I
Lisdexamfetamine (1205) | II
Glutethimide (2550) | II
Nabilone (7379) | II
1-Phenylcyclohexylamine (7460) | II
1-Piperidinocyclohexane carbonitrile (8603) | II
Alphaprodine (9010) | II
Hydrocodone (9193) | II
Levomethorphan (9210) | II
Levorphanol (9220) | II
Noroxymorphone (9668) | II
Racemethorphan (9732) | II
Remifentanil (9739) | II
Carfentanil (9743) | II
Tapentadol (9780) | II

The company plans to import the listed controlled substances for manufacture and distribution to their research and forensic customers conducting drug testing and analysis.

Any bulk manufacturer who is presently, or is applying to be, registered with DEA to manufacture such basic classes of controlled substance listed in schedules I and II, which fall under the authority of section 1002(a)(2)(B) of the Act (21 U.S.C. 952(a)(2)(B)) may, in the circumstances set forth in 21 U.S.C. 958(i), file comments or objections to the issuance of the proposed registration and may, at the same time, file a written request for a hearing on such application pursuant to 21 CFR 1301.43 and in such form as prescribed by 21 CFR 1316.47.

Any such written comments or objections should be addressed, in quintuplicate, to the Drug Enforcement Administration, Office of Diversion Control, Federal Register Representative (ODW), 8701 Morrissette Drive, Springfield, Virginia 22152; and must be filed no later than December 18, 2013.

This procedure is to be conducted simultaneously with, and independent of, the procedures described in 21 CFR 1301.34(b), (c), (d), (e), and (f). As noted in a previous notice published in the Federal Register on September 23, 1975, 40 FR 43745-46, all applicants for registration to import a basic classes of any controlled substances in schedules I or II are, and will continue to be, required to demonstrate to the Deputy Assistant Administrator, Office of Diversion Control, Drug Enforcement Administration, that the requirements for such registration pursuant to 21 U.S.C. 958(a); 21 U.S.C. 823(a); and 21 CFR 1301.34(b), (c), (d), (e), and (f) are satisfied.

Dated: November 5, 2013.
Joseph T. Rannazzisi,
Deputy Assistant Administrator, Office of Diversion Control, Drug Enforcement Administration.

[FR Doc. 2013-27454 Filed 11-15-13; 8:45 am]

BILLING CODE 4410-09-P